Title 3—

The President

Proclamation 11005 of January 20, 2026

National Day of Patriotic Devotion, 2026

By the President of the United States of America

A Proclamation

One year ago today, I stood in the majestic rotunda of our Nation's Capitol and pledged to the American people that we would reclaim our national sovereignty, restore our safety, rebalance the scales of justice, and rebuild a country that is proud, prosperous, and free. Over the last 12 months, my Administration has swiftly delivered on these promises in epic fashion, ushering in a new era of peace, prosperity, and strength, and reclaiming the values and way of life that have made our Republic the envy of the world for 250 years. On this National Day of Patriotic Devotion, we unite as one people to honor our most sacred American ideals, celebrate our victories, and reaffirm our solemn mission to make our country greater than ever before.

When I took office 1 year ago, our country was in a state of chaos and decline. Our borders were wide open, allowing criminals, drug dealers, and violent gang members to pour in and poison our communities. Crime was surging, law enforcement was under siege, and Christians, conservatives, and other innocent Americans were being viciously persecuted. Inflation was crushing families, wages were stagnant, and the cost of living was out of control. American democracy had been undermined by lawlessness, government abuse, and a collapse of accountability at the highest levels. Men were competing in women's sports and invading women's locker rooms. Extremist left-wing ideologies were being forced into classrooms. The worst trade deals in our history had hollowed out American industry, and our leaders were undermining our strength on the world stage.

On day one, I immediately began working to fight for the law-abiding, hardworking men and women who built our Nation, who defend our Nation, and who make our Nation run.

One of my most urgent duties was to confront the worst border crisis in American history. Shortly after I took the oath of office, I declared a national emergency at the southern border, designated cartels as Foreign Terrorist Organizations and Specially Designated Global Terrorists, resumed border wall construction, reinstated the Remain in Mexico policy, halted the practice of catch-and-release, ended asylum for illegal border crossers, deployed thousands of American soldiers to defend and protect our southern border, and began carrying out the largest deportation operation in the history of our country.

In just a few short months, we turned the worst border crisis into the most secure border ever recorded. The flood of illegal aliens entering our country has come to a screeching halt. Illegal border crossings over the year have plummeted by 92 percent, and U.S. Customs and Border Patrol seized more than half a million pounds of drugs.

I have also spared no time in rebuilding our economy. On the first day of my Administration, I signed a Presidential Memorandum to secure emergency price relief for families—ordering Federal departments to free the American economy from regulatory restraints, restore affordability, and lower the cost of living. I have further taken action to restore American dominance in energy production, and deliver energy abundance that brought down the cost of gas and electricity prices to levels not seen in decades. As a result, inflation is down 70 percent from its peak rate during the previous administration, the affordability gap is swiftly closing, real wages are soaring, and housing costs are falling.

Additionally, my Administration has rebuilt American manufacturing and put an end to the policies that forced our workers and businesses to compete against foreign nations that exploit our markets. We have secured historic investment, infrastructure, and technology deals that strengthen our supply chains, protect American innovation, and ensure the future is built by American hands and proud American hearts.

Less than 6 months into my term, we passed the historic One Big Beautiful Bill—one of the greatest legislative triumphs in American history—which made the largest tax cuts ever enacted permanent; delivered no tax on tips, no tax on Social Security, and no tax on overtime; increased the child tax credit; invested in American infrastructure; lowered energy costs; and permanently secures the border.

I have also moved swiftly to reassert American strength on the world stage. On my first day back in office, I signed an Executive Order directing the Secretary of State to ensure that all policies, programs, personnel, and operations at the Department of State defend America's interests and champion the needs of the American people. I have also rebuilt the most powerful and capable military anywhere in the world. Guided by a foreign policy of peace through strength, my Administration has already secured major peace agreements between nations torn by decades of fighting—including in the Middle East—and we will continue to pursue peaceful resolutions that put America first, protect our citizens, and promote stability and prosperity both at home and abroad. The full might of the American spirit is being fully restored, and our work is only just beginning.

As President, I have worked to restore the enduring American values that bind us together as one Nation under God: Equal justice under the law, freedom of speech, merit over the sinister “DEI” agenda, and reverence for our heritage, history, and heroes. My Administration has ended the era of government weaponization, strengthened the integrity of our elections, and reaffirmed that the law applies equally to every citizen. Most importantly, we are renewing our civic culture. Under my leadership, children are once again being taught to love their country and always respect our great American flag.

January 20, 2025, will forever be remembered as the day our Nation was restored to its full greatness and glory. Never again will America surrender her sovereignty, silence her people, apologize for her strength, or suppress the rights and God-given potential of her citizens. This National Day of Patriotic Devotion, as we celebrate 250 years since our Nation's founding, we stand renewed, resolute, and unafraid, carrying forward the same defiant spirit of July 4, 1776, that forged our Republic and will secure our future for generations to come.

NOW, THEREFORE, I, DONALD J. TRUMP, President of the United States of America, by virtue of the authority vested in me by the Constitution and the laws of the United States, do hereby proclaim January 20, 2026, as National Day of Patriotic Devotion, in order to strengthen our bonds to each other and to our country, and to renew the duties of Government to the people.

IN WITNESS WHEREOF, I have hereunto set my hand this twentieth day of January, in the year of our Lord two thousand twenty-six, and of the Independence of the United States of America the two hundred and fiftieth.

[FR Doc. 2026-01572

Filed 1-23-26; 11:15 am]

Billing code 3395-F4-P